DEPARTMENT OF HOMELAND SECURITY

Coast Guard

33 CFR Parts 148, 149, and 150

[USCG-1998-3884]

RIN 1625-AA20 (formerly RIN 2115-AF63)

Deepwater Ports; Voluntary Guidelines

AGENCY: Coast Guard, DHS.

ACTION: Notice of availability.

SUMMARY: The Coast Guard announces the availability of a Navigation and Vessel Inspection Circular (NVIC), providing voluntary guidelines in connection with the regulation of deepwater oil and natural gas ports pursuant to the Deepwater Port Act of 1974, as amended. The NVIC guidelines relate to the design, plan review, fabrication, installation, inspection, maintenance, and oversight of these deepwater ports. Compliance with the NVIC is voluntary and no new legal requirements are imposed.

DATES: The Coast Guard issued NVIC 03-05 on May 16, 2005.

ADDRESSES: You may request a copy of NVIC 03-05 from U.S. Coast Guard Headquarters (G-MSO-5), Room 1508, 2100 2nd Street SW., Washington DC 20593. The NVIC is available on the Internet at: http://www.uscg.mil/hq/g-m/nvic/. It is also available in the public docket (USCG-1998-3884) and is available for inspection or copying at the Docket Management Facility, U.S. Department of Transportation, room PL-402, 400 Seventh Street SW., Washington, DC, between 9 a.m. and 5 p.m., Monday through Friday, except Federal holidays. You may also find this public docket on the Internet at http://dms.dot.gov/.

FOR FURTHER INFORMATION CONTACT: If you have questions on this notice, call LCDR Kevin Tone, Deepwater Port Standards Division, Coast Guard, telephone 202-267-0226, e-mail: ktone@comdt.uscg.mil. If you have questions on viewing the docket, call Andrea M. Jenkins, Program Manager, Docket Operations, telephone: 202-366-0271.

SUPPLEMENTARY INFORMATION: Under the Deepwater Port Act of 1974, as amended, 33 U.S.C. 1501 et seq., a deepwater port is a fixed or floating manmade structure other than a vessel, or a group of structures, located beyond State seaward boundaries and used or intended for use as a port or terminal for the transportation, storage, and further handling of oil or natural gas for transportation to any State. The Coast Guard regulates the licensing of deepwater ports, in 33 CFR parts 148, 149, and 150, under a temporary interim rule issued in 2004 (69 FR 724, Jan. 6, 2004).

On May 16, 2005, the Coast Guard issued Navigation and Vessel Inspection Circular No. 03-05 (NVIC 03-05). NVIC 03-05 provides guidance to deepwater port license applicants and operators, to the Coast Guard, and to “certifying entities” that perform certification work on behalf of the Coast Guard. This guidance relates to the design, plan review, fabrication, installation, maintenance, and oversight of deepwater ports. NVIC 03-05 encourages voluntary compliance, but is not intended to and does not impose legally binding requirements on any person.

The ADDRESSES section of this notice tells how to view or obtain a copy of NVIC 03-05. The Coast Guard is issuing this notice of availability in accordance with the commitment we made in our temporary interim rule, at 69 FR 726, to keep the public informed of Coast Guard policies interpreting the deepwater port regulations. We will issue additional notices of availability, should we modify or supplement NVIC 03-05 in the future.

Dated: May 31, 2005.
Howard L. Hime,
Acting Director of Standards, Marine Safety, Security, and Environmental Protection, U.S. Coast Guard.

[FR Doc. 05-11318 Filed 6-7-05; 8:45 am]

BILLING CODE 4910-15-P